NUCLEAR REGULATORY COMMISSION

[Docket No. 72-3]

Notice of Issuance of Amendment to Materials License No. SNM-2502; Carolina Power & Light Company, H.B. Robinson Independent Spent Fuel Storage Installation

The U.S. Nuclear Regulatory Commission (NRC or the Commission) has issued Amendment 13 to Materials License SNM-2502 held by Carolina Power & Light Company (CP&L) for the receipt, possession, transfer, and storage of spent fuel at the H.B. Robinson Independent Spent Fuel Storage Installation (ISFSI), located in Darlington County, South Carolina. The amendment is effective as of the date of issuance.

By application dated September 3, 2003, CP&L requested an amendment to Materials License SNM-2502 for the H.B. Robinson ISFSI to make editorial changes to the technical specifications. The request involved changing the drawing numbers referenced in section 5 of Appendix A of the technical specifications from the original ISFSI vendor's numbers to the H.B. Robinson plant's numbers used for drawing control. The requested changes do not affect the design, operation, or surveillance of the ISFSI.

This amendment complies with the requirements of the Atomic Energy Act of 1954, as amended (the Act), and the Commission's rules and regulations. The Commission has made appropriate findings as required by the Act and the Commission's rules and regulations in 10 CFR chapter I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

The Commission has determined that the issuance of the amendment meets the criteria for a categorical exclusion set forth in 10 CFR 51.22(c)(10) of the regulations. Therefore, an environmental assessment need not be prepared in connection with issuance of the amendment.

The request for amendment was docketed under 10 CFR part 72, Docket 72-3. For further details with respect to this action, see the amendment request dated September 3, 2003, which is available for public inspection at the Commission's Public Document Room, One White Flint North Building, 11555 Rockville Pike, Rockville, MD or from the publicly available records component of NRC's Agencywide Documents Access and Management System (ADAMS) under Accession No. ML032510880. The NRC maintains ADAMS, which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737 or by email to pdr@nrc.gov.

Dated in Rockville, Maryland, this 9th day of December, 2003.
For the Nuclear Regulatory Commission.
James Randall Hall,
Senior Project Manager, Licensing Section, Spent Fuel Project Office, Office of Nuclear Material Safety and Safeguards.

[FR Doc. 03-30958 Filed 12-15-03; 8:45 am]

BILLING CODE 7590-01-P